DEPARTMENT OF DEFENSE

Department of the Air Force

Air University Board of Visitors; Notice of Meeting

ACTION: Notice of Meeting of Air University Board of Visitors.

SUMMARY: The purpose of the meeting is to give the board an opportunity to review Air University educational programs and to present a report of their findings and recommendations concerning these programs.

DATES: The Air University Board of Visitors will hold an open meeting on November 5-6, 2007, 8-4:30 CDT, Maxwell Air Force Base, Alabama.

FOR FURTHER INFORMATION CONTACT: Dr. Dorothy Reed, Chief of Academic Affairs, Air University Headquarters, Maxwell Air Force Base, Alabama 36112-6335, at (334) 953-5159.

Bao-Anh Trinh,
Air Force Federal Register Liaison Officer.

[FR Doc. E7-18635 Filed 9-20-07; 8:45 am]

BILLING CODE 5001-05-P